FEDERAL DEPOSIT INSURANCE CORPORATION

12 CFR Part 331

Removal of Asset and Liability Backup Program

AGENCY: Federal Deposit Insurance Corporation (FDIC).

ACTION: Final rule.

SUMMARY: On June 9, 1999, the FDIC published an interim final rule (64 FR 30869) requiring asset and liability backup programs (ALBPs) for limited deposit account and loan account information in a small number of institutions. The rule was intended to facilitate timely restoration of key financial records in the event that an FDIC-insured depository institution experienced a Year 2000 (Y2K) computer problem that required it to be placed in receivership. Because this rule was created to meet a contingency related to Y2K, the FDIC did not contemplate that it would remain effective after the contingency period ended. A sunset provision was therefore included in the rule to the effect that its procedures would not be required after June 30, 2000. This action confirms that the rule is no longer needed, and removes it from the Code of Federal Regulations.

EFFECTIVE DATE: December 18, 2000.

FOR FURTHER INFORMATION CONTACT: James Crum, Project Manager, Bank Technology Group, (202) 736-0586; or Nancy Schucker Recchia, Counsel, Legal Division (202) 898-8885, Federal Deposit Insurance Corporation, Washington, DC 20429.

SUPPLEMENTARY INFORMATION: Under the auspices of the Federal Financial Institutions Examination Council (FFIEC), the FDIC, the Board of Governors of the Federal Reserve System (Board), the Office of the Comptroller of the Currency (OCC), and the Office of Thrift Supervision (OTS) provided extensive Y2K-readiness guidance to the banking industry. Despite best efforts in preparing for Y2K, there remained the possibility that some institutions would not be Y2K ready and might have to be closed. The FDIC planned for a broad range of contingencies and on June 9, 1999, published an interim final rule to ensure that, if an affected institution experienced a Y2K problem and was closed, the FDIC would be able to make federally insured deposits available to depositors expeditiously. The rule also facilitated the quick acquisition or transfer of servicing of assets to help maintain public confidence in, and minimize any related disruption to, the financial system.

The interim final rule, 12 CFR 331, became effective on July 9, 1999, including the provision at 12 CFR 331.6 that the ALBP procedures contained in the rule would not be needed after June 30, 2000. As anticipated, the procedures are no longer needed. Therefore, with this action, the FDIC is rescinding the rule.

For the reasons set out in the preamble and under the authority of 12 U.S.C. 1818 (a) and (b) and 12 U.S.C. 1819(a) (Seventh and Tenth), 12 CFR Part 331 is removed and reserved.

Dated at Washington, D.C., this 13th day of December, 2000.
Federal Deposit Insurance Corporation.
Robert E. Feldman,
Executive Secretary.

[FR Doc. 00-32173 Filed 12-15-00; 8:45 am]

BILLING CODE 6714-01-P